DEPARTMENT OF DEFENSE

Department of the Army

Availabilty for Non-Exclusive, Exclusive, or Partially Exclusive Licensing of U.S. Patent Application Concerning East Access Dental Field Operating and Treatment System Having Over-the-Patient Delivery

Correction

In notice document 03-15019 beginning on page 35391 in the issue of Friday, June 13, 2003, make the following correction:

On page 35391, in the third column, in the first paragraph, in the 9th line, “(PCT/US02/02283)” should read “(PCT/US02/01283)”.

[FR Doc. C3-15019 Filed 6-18-03; 8:45 am]

BILLING CODE 1505-01-D

EQUAL EMPLOYMENT OPPORTUNITY COMMISSION

Agency Information Collection Activities: Revision of the Employer Information Report (EE0-1) Comment Request

Correction

In notice document 03-14739 beginning on page 34965 in the issue of Wednesday, June 11, 2003 make the following corrections:

1. On page 34967, in the table, under the heading “Proposed EEO-1 (Answer for both male and female)” in the second line “who answe” should read “who answer”.

2. On the same page, in the second column, under “Question 1—Ethnicity”, in the first line “Are our Hispanic or Latino? ” should read “Are You Hispanic or Latino?”.

3. On page 34969, in the first column, in the first paragraph, in the last line “422-224” should read “422-424”.

[FR Doc. C3-14739 Filed 6-18-03; 8:45 am]

BILLING CODE 1505-01-D

SECURITIES AND EXCHANGE COMMISSION

[Release No. 34-47948; File No. SR-CBOE-2003-19]

Self-Regulatory Organizations; Notice of Filing and Immediate Effectiveness of Proposed Rule Change by the Chicago Board Options Exchange, Inc. To Reinstate the Imposition of a Marketing Fee

May 30, 2003.

Correction

In notice document 03-14171 beginning on page 33749 in the issue of Thursday, June 5, 2003 make the following correction:

On page 33749, in the third column, the date is corrected to read as set forth above.

[FR Doc. C3-14171 Filed 6-18-03; 8:45 am]

BILLING CODE 1505-01-D